ENVIRONMENTAL PROTECTION AGENCY

[FRL-9902-93-OW]

National Drinking Water Advisory Council; Request for Nominations

AGENCY: Environmental Protection Agency (EPA).

ACTION: Notice; request for nominations.

SUMMARY: The EPA invites nominations of qualified candidates to be considered for a three-year appointment to the National Drinking Water Advisory Council (Council). The 15 member Council was established by the Safe Drinking Water Act (SDWA) to provide practical and independent advice, consultation and recommendations to the EPA Administrator on the activities, functions, policies, and regulations required by the SDWA. This notice solicits nominations to fill five new vacancies through December 15, 2016. To maintain the representation required by statute, nominees will be selected to represent: State and local agencies concerned with water hygiene and public water supply (two vacancies) and private organizations or groups demonstrating an active interest in the field of water hygiene and public water supply (three vacancies).

DATES: Nominations should be submitted on or before December 20, 2013.

ADDRESSES: Submit nominations to Roy Simon, Designated Federal Officer (DFO), The National Drinking Water Advisory Council, U.S. Environmental Protection Agency, Office of Ground Water and Drinking Water (Mail Code 4601-M), 1200 Pennsylvania Avenue NW., Washington, DC 20460. You may also email nominations with the subject line NDWACResume2013 to Simon.Roy@epa.gov.

FOR FURTHER INFORMATION CONTACT: Email your questions to Roy Simon or call him at 202-564-3868.

SUPPLEMENTARY INFORMATION: National Drinking Water Advisory Council: The Council was created by Congress on December 16, 1974, as part of the Safe Drinking Water Act of 1974, Public Law 93-523, 42 U.S.C. 300j-5 and is operated in accordance with the provisions of the Federal Advisory Committee Act (FACA), 5 U.S.C. App.2. The Council consists of 15 members, including a Chairperson, appointed by the EPA's Administrator. Five members represent the general public; five members represent appropriate State and local agencies concerned with water hygiene and public water supply; and five members represent private organizations or groups demonstrating an active interest in the field of water hygiene and public water supply, of which two members shall represent small, rural public water systems. The current list of members is available on the EPA Web site at: http://water.epa.gov/drink/ndwac/.

The Council will meet in person once each year and may hold a second meeting during the year either in person or by video/teleconferencing. These meetings generally occur in the spring and fall. Additionally, members may be asked to participate in ad hoc workgroups to develop policy recommendations, advice letters and reports to address specific program issues.

Member Nominations: Any interested person and/or organization may nominate qualified individuals for membership. The EPA values and welcomes diversity. In an effort to obtain nominations of diverse candidates, the agency encourages nominations of women and men of all racial and ethnic groups.

All nominations will be fully considered, but applicants need to be aware of the specific representation required by the SDWA for the current vacancies: State and local agencies concerned with water hygiene and public water supply (two vacancies), and private organizations or groups demonstrating an active interest in the field of water hygiene and public water supply (three vacancies). Other criteria used to evaluate nominees will include:

• Demonstrated experience with drinking water issues at the national, State or local level;

• Excellent interpersonal, oral and written communication and consensus-building skills;

• Willingness to commit time to the Council and demonstrated ability to work constructively on committees;

• Absence of financial conflicts of interest;

• Absence of appearance of a lack of impartiality; and

• Background and experiences that would help members contribute to the diversity of perspectives on the Council, e.g., geographic, economic, social, cultural, educational backgrounds, professional affiliations, and other considerations.

Nominations must include a resume, which provides the nominee's background, experience and educational qualifications, as well as a brief statement (one page or less) describing the nominee's interest in serving on the Council and addressing the other criteria previously described. Nominees should be identified by name, occupation, position, current business address, and email and telephone number. Interested candidates may self-nominate.

The DFO will acknowledge receipt of nominations. Nominees are encouraged to provide any additional information that they feel would be useful for consideration, such as: Availability to participate as a member of the Council; how the nominee's background, skills and experience would contribute to the diversity of the Council; and any concerns the nominee has regarding membership.

Persons selected for membership will receive compensation for travel and a nominal daily compensation (if appropriate) while attending meetings. Additionally, selected candidates will be required to fill out the “Confidential Financial Disclosure Form for EPA Special Government Employees” [EPA Form 3310-48]. This confidential form allows EPA to determine whether there is a statutory conflict between that person's public responsibilities as a Special Government Employee and private interests and activities, or the appearance of a lack of impartiality, as defined by Federal regulation. The form may be viewed and downloaded through the “Ethics Requirements for Advisors” link on the EPA NDWAC Web site, http://water.epa.gov/drink/ndwac/fact.cfm.

Other sources, in addition to this Federal Register notice, may also be utilized in the solicitation of nominees. To help the EPA in evaluating the effectiveness of its outreach efforts, please tell us how you learned of this opportunity.

Dated: November 6, 2013.
Peter Grevatt,
Director, Office of Ground Water and Drinking Water.

[FR Doc. 2013-27273 Filed 11-14-13; 8:45 am]

BILLING CODE 6560-50-P